SMALL BUSINESS ADMINISTRATION

Data Collection Available for Public Comments

ACTION: 60-Day notice and request for comments.

SUMMARY: The Small Business Administration (SBA) intends to request approval, from the Office of Management and Budget (OMB) for a revision to the collection of information described below. The Paperwork Reduction Act (PRA) requires federal agencies to publish a notice in the Federal Register concerning each proposed collection of information before submission to OMB, and to allow 60 days for public comment in response to the notice. This notice complies with that requirement.

DATES: Submit comments on or before June 9, 2025.

ADDRESSES: Send all comments to Gregorius Suryadi, Financial and Loan Specialist, Office of Financial Assistance, Small Business Administration, 409 3rd Street SW, Washington, DC 20416.

FOR FURTHER INFORMATION CONTACT: Gregorius Suryadi, Financial and Loan Specialist, Office of Financial Assistance, email gregorius.suryadi@sba.gov, or phone (202) 205-6806, or Curtis B. Rich, Management Analyst, (202) 205-7030, curtis.rich@sba.gov.

SUPPLEMENTARY INFORMATION: SBA is updating its information collection titled “SBA 504 Loan Borrower Information Form. The proposed changes are being made to comply with Administration priorities and Program updates as well as recent Executive Orders including 14159, “Protecting the American People Against Invasion”, issued January 20, 2025, and SBA Policy Notice 5000-865754, “Policy updates to comply with Executive Order 14159 regarding citizenship requirements for obtaining 7(a) and 504 loans”, published March 7, 2025, and to improve the instructional guidance in the form.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: SBA 504 Borrower Information Form.

Form Number: SBA Form 1244.

OMB Control Number: 3245-0071.

Description of Respondents: Respondents are small business concerns (SBC) applying for a section 504 loan and Certified Development Companies.

SBA uses this form to review the eligibility of the SBC for SBA financial assistance, the creditworthiness and repayment ability of the SBC, and the terms and conditions of the 504 loan for which the SBC is applying.

Total Estimated Annual Responses: 5,993.

Total Estimated Annual Hour Burden: 16,157 hours.

Curtis Rich,
Management Analyst.

[FR Doc. 2025-06012 Filed 4-7-25; 8:45 am]

BILLING CODE 8026-09-P